DEPARTMENT OF COMMERCE

National Oceanic and Atmospheric Administration

[RTID 0648-XB748]

Pacific Fishery Management Council; Public Meeting

AGENCY: National Marine Fisheries Service (NMFS), National Oceanic and Atmospheric Administration (NOAA), Commerce.

ACTION: Notice of public meeting.

SUMMARY: Drs. Chris Harvey and Toby Garfield of NMFS will provide a briefing on the 2022 California Current Integrated Ecosystem Assessment (CCIEA) Ecosystem Status Report to interested Pacific Fishery Management Council (Pacific Council) members, advisory body members, and the public.

DATES: The online briefing will be held Wednesday, March 2, 2022, from 1 p.m. to 3 p.m., Pacific Standard Time, or until discussion is finished.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Dr. Kit Dahl, Staff Officer, Pacific Council; telephone: (503) 820-2422.

SUPPLEMENTARY INFORMATION: Drs. Harvey and Garfield of the NMFS Northwest and Southwest Fisheries Science Centers lead NOAA's CCIEA Team, which produces the Ecosystem Status Report. It is presented to the Pacific Council annually at its March meeting. This annual reporting process was established through the Pacific Council's Fishery Ecosystem Plan. These annual reports present a summary of environmental, biological, economic, and social indicators that give a snapshot of current ecosystem health. This information provides context for fishery management decisions taken by the Pacific Council throughout the year. The Pacific Council also regularly provides feedback to the CCIEA Team on potential improvements to the Report. This presentation is aimed at a broad audience of Council members, advisory body members, and the public. The CCIEA Team may follow up with more targeted discussions with advisory bodies during their March meetings, upon request. Drs. Harvey and Garfield will also brief the Council directly at its March meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: February 7, 2022.
Tracey L. Thompson,
Acting Deputy Director, Office of Sustainable Fisheries, National Marine Fisheries Service.

[FR Doc. 2022-02842 Filed 2-9-22; 8:45 am]

BILLING CODE 3510-22-P